DEPARTMENT OF VETERANS AFFAIRS

Advisory Committee on Structural Safety of Department of Veterans Affairs Facilities, Notice of Meeting

The Department of Veterans Affairs (VA) gives notice under the Federal Advisory Committee Act that a meeting of the Advisory Committee on Structural Safety of Department of Veterans Affairs Facilities will be held on September 24-25, 2019, in Room 6W.306, 425 I Street NW, Washington, DC. The meeting sessions will begin and end as follows:

Date | Time
September 24, 2019 | 9:00 a.m.-5:00 p.m.
September 25, 2019 | 9:00 a.m.-3:00 p.m.

The meeting sessions are open to the public.

The purpose of the Committee is to advise the Secretary of Veterans Affairs on matters of structural safety in the construction and remodeling of VA facilities and to recommend standards for use by VA in the construction and alteration of its facilities.

On September 24-25, the Committee will receive appropriate briefings and presentations on current seismic, natural hazards, and fire safety issues that are particularly relevant to facilities owned and leased by the Department. The Committee will also discuss appropriate structural and fire safety recommendations for inclusion in VA's construction standards.

No time will be allocated for receiving oral presentations from the public. However, the Committee will accept written comments. Comments should be sent to Donald Myers, Director, Facilities Standards Service, Office of Construction & Facilities Management (003C2B), Department of Veterans Affairs, 425 I Street NW, Washington, DC 20001, or emailed to donald.myers@va.gov. Because the meeting will be held in a Government building, anyone attending must be prepared to show a valid photo ID. Please allow 15 minutes before the meeting begins for this process. Those wishing to attend should or seeking additional information should contact Mr. Myers at (202) 632-5388.

Dated: August 26, 2019.
Jelessa M. Burney,
Federal Advisory Committee Management Officer.

[FR Doc. 2019-18657 Filed 8-28-19; 8:45 am]

BILLING CODE 8320-01-P